COMMODITY FUTURES TRADING COMMISSION

Sunshine Act Meetings

Time and Date: 11 a.m. Thursday, October 9, 2008.

Place: 1155 21st St., NW., Washington, DC, 9th Floor Commission Conference Room.

Status: Closed.

Matters to be Considered: DCIO Rule Enforcement Review Meeting.

Contact Person for More Information: Sauntia S. Warfield, 202-418-5084.

Sauntia S. Warfield,
Staff Assistant.

[FR Doc. E8-23957 Filed 10-6-08; 11:30 am]

BILLING CODE 6351-01-P